DEPARTMENT OF ENERGY

National Advisory Committee on Coal

AGENCY: Office of Fossil Energy, Department of Energy.

ACTION: Notice of re-establishment.

SUMMARY: Pursuant to the Federal Advisory Committee Act and in accordance with title 41 of the Code of Federal Regulations, and following consultation with the Committee Management Secretariat of the General Services Administration, notice is hereby given that the National Advisory Committee on Coal (formerly National Coal Council) will be re-established for a two-year period. The Committee will provide advice, information, and recommendations to the Secretary of Energy on a continuing basis regarding general policy matters relating to coal issues.

SUPPLEMENTARY INFORMATION: The charter for the National Coal Council (NCC) lapsed on November 20, 2021 in light of DOE's commitment to fully evaluate the need to expand the scope of advisory work of the committee. In particular, the charter for the re-established National Advisory Committee on Coal (NACC) has been modernized to reflect matters currently faced by the coal industry, workers, and communities; and the priorities outlined in the Energy Policy Act of 2005, Public Law 109-48 (as amended, most recently by Public Law 116-260 on December 27, 2020) and the Bipartisan Infrastructure Law, Public Law 117-58.

Committee members will be chosen to assure a well-balanced representation from all sections of the country, all segments of the coal industry, including large and small companies, and commercial and residential consumers. The Committee will also have diverse members who represent interests including the environmental remediation, regional development experts and others as determined by the Secretary. Membership and representation of all interests will be determined in accordance with the requirements of the Federal Advisory Committee Act, and implementing regulation

The re-establishment of the Committee has been deemed essential to the conduct of the Department's business and in the public interest in conjunction with the performance of duties imposed upon the Department of Energy, by law and agreement. The Committee will operate in accordance with the provisions of the Federal Advisory Committee Act and the rules and regulations in implementation of that Act.

FOR FURTHER INFORMATION CONTACT: Tom Sarkus at (412) 386-5981; email: thomas.sarkus@netl.doe.gov.

Signing Authority

This document of the Department of Energy was signed on January 26, 2022, by Miles Fernandez, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 26, 2022.
Treena V. Garrett,
Federal Register Liaison Officer, U.S. Department of Energy.

[FR Doc. 2022-01934 Filed 1-28-22; 8:45 am]

BILLING CODE 6450-01-P